NUCLEAR REGULATORY COMMISSION

[Docket Nos. 50-369 and 50-370]

Duke Energy Corporation; McGuire Nuclear Station, Units 1 and 2; Environmental Assessment and Finding of No Significant Impact

The U.S. Nuclear Regulatory Commission (NRC) is considering issuance of amendments to Duke Energy Corporation (DEC), for operation of the McGuire Nuclear Station, Units 1 and 2, Facility Operating License (FOLs) Nos. NPF-9 and NPF-17, respectively, located in Mecklenberg County, North Carolina. Therefore, as required by 10 CFR 51.21, the NRC is issuing this environmental assessment and finding of no significant impact.

Environmental Assessment

Identification of Proposed Action

The proposed action would amend the Facility Operating Licenses for McGuire Nuclear Station, Units 1 and 2, by (a) deleting the license conditions that have been fulfilled by actions that have been completed or are imposed by other regulatory requirements, (b) changing the license conditions that have been superseded by the current plant status, and (c) incorporating other administrative changes. This includes the following license conditions; for Unit 1: 1.H Environmental Protection Plan, 2.C(1) Maximum Power Level, 2.C(3) Initial Test Program, 2.C(4) Fire Protection Program, 2.C(5) Compliance with Regulatory Guide 1.97, 2.C(6) Steam Generator Inspection, 2.C(7) Environmental Qualification, 2.C(8) Radioactive Waste Treatment System, 2.C(9) Piping System Reanalysis, 2.C(10) Category I Masonry Walls, 2.C(11) NUREG-0737 Conditions for “Fuel Loading and Low Power Testing”, “Full Power Requirements”, “NRC Actions” and “Dated Requirements”, 2.C(12) Steam Generator Design Modification, 2.C(13) Additional Conditions, 2.D Exemptions from Appendix G to 10 CFR part 50, 2.E Security and Safeguards Plans, 2.F Deleted by prior amendment, 2.G Reporting of Violations, 2.H Notification of Accident, Appendix C: Additional Conditions. For Unit 2: 1.H Environmental Protection Plan, 2.C(1) Maximum Power Level, 2.C(4) Thermal Sleeves, 2.C(5) Model D-3 Steam Generator, 2.C(6) Environmental Qualification, 2.C(7) Fire Protection, 2.C(8) Heavy Loads, 2.C(9) Initial Test Program, 2.C(10) NUREG-0737 Conditions, items (a)-(f), 2.C(11) Protection of the Environment, 2.C(12) Reactor Trip breakers, 2.C(13) Additional Conditions, Table 1: Reactor Trip Breakers and Reactor Trip Bypass Breakers, 2.D Exemptions from Appendix G to 10 CFR Part 50, 2.E Security and Safeguards Plans, 2.F Reporting of Violations, 2.G Notification of Accident, 2.J Storage of Oconee spent fuel assemblies, Attachment 1: Pre-operational Tests, Appendix D: Additional Conditions.

The proposed action is in accordance with DEC's application for an amendment dated June 13, 2000.

The Need for the Proposed Action

When the FOLs, NPF-9 and NPF-17, were issued to the licensee, the NRC staff deemed certain issues essential to safety and/or essential to meeting certain regulatory interests. These issues were imposed as license conditions in the FOLs. Since the units were licensed to operate in the 1980s, most of these license conditions have been fulfilled. For the license conditions that have been fulfilled, DEC proposes to have them deleted from the FOLs.

The licensee also proposed to make changes to correct administrative errors such as words inadvertently omitted, documents erroneously cited, etc.

The proposed amendments involve administrative changes to the FOLs only. No actual plant equipment, regulatory requirements, operating practices, or analyses are affected by these proposed amendments. This would eliminate unnecessary license conditions from the Facility Operating Licenses.

Environmental Impacts of the Proposed Action

The NRC has completed its evaluation of the proposed action and concludes that there is no significant environmental impact if the amendments are granted. No changes will be made to the design and licensing bases, and applicable procedures at the two units at McGuire Nuclear Station will remain the same. Other than the administrative changes, no other changes will be made to the FOLs, including the Technical Specifications.

The staff has concluded that the proposed action will not increase the probability or consequences of accidents, no changes are being made in the types of any effluents that may be released offsite, and there is no significant increase in occupational or public radiation exposure. Accordingly, the NRC concludes that there are no significant radiological environmental impacts associated with the proposed action.

With regard to potential non-radiological impacts, the proposed action does not have a potential to affect any historic sites. The proposed action does not affect non-radiological plant effluents and has no other environmental impact. Accordingly, the NRC concludes that there are no significant non-radiological environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

This action does not involve the use of any different resources than those previously considered in the Final Environmental Statement for the McGuire Nuclear Station, Units 1 and 2, dated April 1976 and Addendum dated January 1981.

Agencies and Persons Contacted

In accordance with its stated policy, on January 10, 2001, the staff consulted with the North Carolina State official, Jonny James of the Bureau of Radiological Health, North Carolina Department of Health and Environmental Control, regarding the environmental impact of the proposed amendments. The State official had no comments.

Finding of No Significant Impact

On the basis of the environmental assessment, the NRC concludes that the proposed action will not have a significant effect on the quality of the human environment. Accordingly, the NRC has determined not to prepare an environmental impact statement for the proposed amendments.

For further details with respect to the proposed action, see the licensee's letter dated June 13, 2000. Documents may be examined, and/or copied for a fee, at the NRC's Public Document Room, located at One White Flint North, 11555 Rockville Pike (first floor), Rockville, Maryland. Publically available records will be accessible electronically from the ADAMS Public Library component on the NRC Web site, http://www.nrc.gov (the Public Electronic Reading Room). If you do not have access to ADAMS or if there are problems in accessing the documents located in ADAMS, contact the NRC Public Document Room (PDR) Reference staff at 1-800-397-4209, or 301-415-4737, or by e-mail at pdr@nrc.gov.

Dated at Rockville, Maryland, this 23rd day of August 2001.
For the Nuclear Regulatory Commission.
Robert E. Martin,
Senior Project Manager, Section 1, Project Directorate II, Division of Licensing Project Management, Office of Nuclear Reactor Regulation.

[FR Doc. 01-21937 Filed 8-29-01; 8:45 am]

BILLING CODE 7590-01-P